DEPARTMENT OF ENERGY

Federal Energy Regulatory Commission

[Project No. 2355-018]

Exelon Generation Company, LLC; Notice of Application Accepted for Filing, Soliciting Motions To Intervene and Protests, Ready for Environmental Analysis, Soliciting Comments, Recommendations, Preliminary Terms and Conditions, and Preliminary Fishway Prescriptions, and Intent To Prepare an Environmental Impact Statement

Take notice that the following hydroelectric application has been filed with the Commission and is available for public inspection.

a. Type of Application: New Major License.

b. Project No.: 2355-018.

c. Date Filed: August 29, 2012.

d. Applicant: Exelon Generation Company, LLC.

e. Name of Project: Muddy Run Pumped Storage Project.

f. Location: On Muddy Run, a tributary to the Susquehanna River, in Lancaster and York Counties, Pennsylvania. The project does not occupy any federal lands.

g. Filed Pursuant to: Federal Power Act, 16 U.S.C. 791(a)-825(r).

h. Applicant Contact: Colleen Hicks, Manager, Regulatory and Licensing, Hydro, Exelon Power, 300 Exelon Way, Kennett Square, PA 19348, at (610) 765-6791 or email at Colleen.Hicks@exeloncorp.com and Kathleen Barròn, Vice President, Federal Regulatory Affairs and Wholesale Market Policy, Exelon Corporation, 101 Constitution Avenue, Washington, DC 20001, at (202) 347-7500 or email at Kathleen.Barron2@exeloncorp.com.

i. FERC Contact: Emily Carter, (202) 502-6512 or emily.carter@ferc.gov.

j. Deadline for filing motions to intervene and protests, comments, recommendations, preliminary terms and conditions, and preliminary fishway prescriptions is September 30, 2013; reply comments are due November 14, 2013.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Muddy Run Pumped Storage Project consists of four dams. The main dam is a rock-filled structure across the Muddy Run ravine with a central impervious core, a maximum height of approximately 260 feet and a total length of 4,800 feet. The east dike is a zoned-earth and rock-filled embankment with a maximum height of approximately 12 feet and a total length of 800 feet. The recreation pond dike is a zoned-earth and rock-filled embankment with a maximum height of approximately 90 feet and a total length of 750 feet. The canal embankment has a maximum height of approximately 35 feet. Total storage in the 900-acre Muddy Run reservoir (upper reservoir) is approximately 60,000 acre-feet and the total useable storage is approximately 35,500 acre-feet at the maximum pool elevation of 520 feet.¹ The maximum pool elevation is approximately 411 feet above the normal elevation of Conowingo pond. Conowingo pond (lower reservoir) has a surface area of 9,000 acres and design storage of approximately 310,000 acre-feet at the normal full pool elevation of 109.2 feet.

¹ All elevations are referenced to National Geodetic Vertical Datum (NGVD) 1929.

The main spillway is a non-gated concrete ogee-type structure that is 200 feet long, 20 feet high and with a crest elevation of 521 feet, which is directed to a vegetated natural ravine. The recreation pond spillway is a rock-cut channel approximately 140 feet wide and with a crest elevation of 520 feet.

The power intake facilities consist of four cylinder gates with trash racks in a cylindrical tower. Each intake supplies two units. Each intake leads to a 430-foot-deep vertical shaft then to a horizontal power tunnel, which divides into two sections. The power tunnel sections transition to a penstock that leads to one of the eight reversible pump-turbine units in the powerhouse. The power plant is constructed of concrete and is 133 feet wide and 600 feet long. It houses eight Francis turbines each equipped with a 100-megawatt (MW) generator. The powerhouse turbines each have a hydraulic capacity of 4,000 cubic feet per second (cfs), for a total discharge capacity from the powerhouse of 32,000 cfs. The pumping capacity of the pump turbines is 3,500 cfs each for a total powerhouse pumping capability of 28,000 cfs. Water flowing through the turbines is discharged via the draft tubes into the Susquehanna River adjacent to the powerhouse. The units are equipped with trash racks between the draft tube outlet and the river.

Electricity generated at the project is transmitted by two individual 220-kilovolt (kV) transmission lines extending from the project switching station approximately 4.25 miles to the Peach Bottom Atomic Power Station (PBAPS) North Substation located in York County.

The Muddy Run Project has an authorized nameplate generating capacity of 800 MW and generates an average of 1,610,611 megawatt hours annually. Exelon is not proposing any new or upgraded facilities or structural changes to the project at this time. Also, Exelon has engaged interested stakeholders to participate in the development of a comprehensive settlement agreement based on collaborative negotiation of specific terms and conditions for the new Muddy Run license.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule:

The application will be processed according to the following Hydro Licensing Schedule. Revisions to the schedule may be made as appropriate.

Milestone | Target date
Filing of recommendations, preliminary terms and conditions, and preliminary fishway prescriptions | September 30, 2013.
Reply comments due | November 14, 2013.
Commission issues draft EIS | March 29, 2014.
Comments on draft EIS | May 28, 2014.
Modified terms and conditions | July 27, 2014.
Commission issues Final EIS | October 25, 2014.

p. Final amendments to the application must be filed with the Commission no later than 30 days from the issuance date of the notice of ready for environmental analysis.

q. A license applicant must file no later than 60 days following the date of issuance of this notice of acceptance and ready for environmental analysis as provided for in 5.22: (1) A copy of the water quality certification; (2) a copy of the request for certification, including proof of the date on which the certifying agency received the request; or (3) evidence of waiver of water quality certification.

Dated: April 29, 2013.
Kimberly D. Rose,
Secretary.

[FR Doc. 2013-10617 Filed 5-3-13; 8:45 am]

BILLING CODE 6717-01-P